DEPARTMENT OF TRANSPORTATION

National Highway Traffic Safety Administration

[Docket No. NHTSA-2025-0029]

Agency Information Collection Activities; Notice and Request for Comment; Event Data Recorders

AGENCY: National Highway Traffic Safety Administration (NHTSA), Department of Transportation (DOT).

ACTION: Notice and request for comments on a request for extension of a currently approved information collection.

SUMMARY: NHTSA invites public comments about our intention to request approval from the Office of Management and Budget (OMB) for an extension of a currently-approved information collection. Before a Federal agency can collect certain information from the public, it must receive approval from OMB. Under procedures established by the Paperwork Reduction Act of 1995, before seeking OMB approval, Federal agencies must solicit public comment on proposed collections of information, including extensions and reinstatements of previously approved collections. This document describes a collection of information for which NHTSA intends to seek OMB approval on Part 563, Event Data Recorders (EDRs).

DATES: Comments must be submitted on or before September 22, 2025.

ADDRESSES: You may submit comments identified by the Docket No. NHTSA-2025-0029 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Joshua McNeil, Office of Crashworthiness Standards, (202) 366-1810, National Highway Traffic Safety Administration, W43-415, U.S. Department of Transportation, 1200 New Jersey Avenue SE, Washington, DC 20590. Please identify the relevant collection of information by referring to its OMB Control Number (2127-0758).

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Part 563, Event Data Recorders.

OMB Control Number: 2127-0758.

Form Number(s): N/A.

Type of Request: Extension of a currently-approved information collection.

Type of Review Requested: Regular.

Requested Expiration Date of Approval: 3 years from date of approval.

Summary of the Collection of Information: This notice seeks public comment on NHTSA's intention to seek approval from OMB to extend without change an existing information collection, OMB No. 2127-0758, related to the requirements outlined in 49 CFR part 563, Event Data Recorders. Part 563 establishes uniform national standards for vehicles voluntarily equipped with EDRs regarding the collection, storage, and retrieval of onboard crash data. Specifically, voluntarily installed EDRs in vehicles with a gross vehicle weight rating (GVWR) of 3,855 kilograms (8,500 pounds) or less must record 15 essential data elements; record up to 30 additional data elements if the vehicle has the capability; record data in a standardized format, including specifications for range, accuracy, resolution, sampling rate, recording duration, and filter class; remain functional after full-scale vehicle crash tests as specified in Federal Motor Vehicle Safety Standards (FMVSS) Nos. 208 and 214; and have the capacity to record data from two events in a multi-event crash. Furthermore, Part 563 requires vehicle manufacturers make a tool for retrieving EDR information commercially available and include a standardized statement in the owner's manual indicating the vehicle has an EDR and describing its purpose. Part 563 aims to ensure that EDRs record crash data in a readily usable format, which is valuable for effective crash investigations and the analysis of safety equipment performance, such as advanced restraint systems.

Description of the Need for the Information and Proposed Use of the Information: Under 49 U.S.C. 322(a), the Secretary of Transportation (the “Secretary”) is authorized to prescribe regulations to carry out the duties and powers of the Secretary. One of the duties of the Secretary is to administer the National Traffic and Motor Vehicle Safety Act, as amended. The Secretary has delegated the responsibility for carrying out the National Traffic and Motor Vehicle Safety Act to NHTSA.¹ Two statutory provisions, 49 U.S.C. 30182 and 23 U.S.C. 403, authorize NHTSA to collect motor vehicle crash data to support its safety mission. NHTSA collects motor vehicle crash information under these authorities to support its statutory mandate to establish motor vehicle safety standards and reduce the occurrence and cost of traffic crashes.² NHTSA also utilizes crash data in the enforcement of motor vehicle safety recalls and other motor vehicle highway safety programs that reduce fatalities, injuries, and property damage caused by motor vehicle crashes. In 2006, NHTSA exercised its general authority to issue such rules and regulations as deemed necessary to carry out Chapter 301 of Title 49, United States Code to promulgate 49 CFR part 563.³

¹ 49 U.S.C. 105 and 322; delegation of authority at 49 CFR 1.95.

² See 49 U.S.C. 30101 and 30111.

³ 71 FR 50997, August 28, 2006.

NHTSA issued Part 563 to improve crash data collection by standardizing data recorded on EDRs to help provide a better understanding of the circumstances in which crashes and injuries occur, which will in turn lead to the development of safer vehicle designs. EDR data are used to improve the quality of crash data collection to assist safety researchers, vehicle manufacturers, and the agency in crash investigations to understand vehicle crashes better and more precisely. Similarly, vehicle manufacturers use EDRs to improve vehicle designs and develop more effective vehicle safety countermeasures.

Additionally, the agency's experience in handling unintended acceleration and pedal entrapment allegations has demonstrated that, if a vehicle is equipped with an EDR, the data from that EDR can improve the ability of both the agency and the vehicle's manufacturer to identify and address safety concerns associated with possible defects in the design or performance of the vehicle.

Affected Public: The respondents are manufacturers that voluntarily equip passenger cars, multipurpose passenger vehicles, trucks, and buses having a GVWR of 3,855 kg (8,500 pounds) or less and an unloaded vehicle weight of 2,495 kg (5,500 pounds) with EDRs.

Estimated Number of Respondents: Approximately 20 vehicle manufacturers.

Estimated Total Annual Burden Hours: NHTSA estimates that there are no annual reporting or recordkeeping burdens associated with Part 563, except for the owner's manual statement requirement which is incorporated into the consolidated owner's manual requirements information collection (OMB Control Number 2127-0541). Vehicle manufacturers are not required to retain or report information gathered by EDRs because the devices themselves continuously monitor vehicle systems and determine when to record, retain, and/or overwrite information. The information is collected automatically by electronic means. Data are only required to be locked and cannot be overwritten when a recordable event occurs (e.g., an air bag deploys in a crash event). When recordable events do occur, EDRs only capture data for a few seconds. NHTSA estimates that there is no annual hourly burden associated with the information standardization requirements of part 563.

Estimated Total Annual Burden Cost: NHTSA initially estimated negligible costs for the 2006 final rule that established part 563 for several key reasons. First, in 2005, approximately 64 percent of new light vehicles already incorporated EDRs within their existing air bag control systems. This meant the rule primarily required these systems to capture information they were already processing. Second, the agency limited the scope of required EDR data elements and associated requirements to the minimum necessary to achieve its objectives. At the time, NHTSA assessed that the industry's existing EDR technology largely satisfied the aims of part 563, negating the need for costly additional sensors or hardware. NHTSA stated in the 2006 final rule that the most significant potential costs may result from data storage upgrades.

NHTSA estimated that 99.5 percent of model year 2021 light vehicles had compliant EDRs, indicating that manufacturers had largely absorbed the costs of meeting the original part 563 requirements. Given this near-universal adoption, NHTSA continues to believe that the currently effective part 563 requirements impose no additional or negligible costs. Consequently, the cost burden for this information collection is discussed qualitatively.

Part 563 applies only to vehicles voluntarily equipped with EDRs. Therefore, any burden is based on the cost difference between compliant and non-compliant EDRs. In assessing additional burden for compliant EDRs, NHTSA considered: (1) the added cost of meeting the 10-day data crash survivability requirement; and (2) the added cost of meeting the data format requirements. Part 563 requires that an EDR must remain functional during and after the compliance tests specified in FMVSS Nos. 208 and 214, and the stored data must be downloadable 10 days after the crash test. While this ensures a basic level of functionality and survivability, it does not guarantee EDR survival in extremely severe events such as fires or submersion. The potential burden for data survivability could include expenses for an additional power supply and enhancements to the Controller Area Network (CAN), such as wiring, data bus, and harness. However, prior to part 563, the agency had not documented widespread EDR survivability issues, except in rare and extreme circumstances. Thus, NHTSA does not anticipate vehicle manufacturers incurring additional costs to ensure the retrieval of essential data elements 10 days after the crash test.

NHTSA believes the current part 563 requirements align with industry EDR practices and international EDR requirements in terms of the minimum duration and sample rate for recorded data elements. Regarding the data storage for part 563 requirements, the adequacy of existing memory in non-compliant EDRs remains unknown due to proprietary concerns. However, EDRs have been nearly universally adopted in the vehicle fleet and manufacturers have not had issues meeting the minimum data capture requirements. Manufacturers may continue to equip EDRs that voluntarily capture a broader range of data elements than the part 563 minimum. Manufacturers can also continue capturing EDR data at longer durations and higher sample rates than the current minimum requirements if they believe there are added benefits for additional data elements at increased sample rates or durations.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

David Hines,
Acting Associate Administrator for Rulemaking.

[FR Doc. 2025-13720 Filed 7-21-25; 8:45 am]

BILLING CODE 4910-59-P